FEDERAL COMMUNICATIONS COMMISSION

47 CFR Part 73

[DA 00-1122; MM Docket No. 98-198; RM-9304, RM-9492, RM-9548, RM-9547]

Radio Broadcasting Services; Cross Plains, Allen, Benbrook, Brownwood, Burkburnett, Campbell, Clifton, Coleman, Commerce, Detroit, Graham, Granbury, Haskell, Kerens, Mason, Jacksboro, McKinney, Muenster, San Saba, Snyder, Terrell, Vernon, Waco, and Wichita Falls, TX; Alva, Anadarko, Antlers, Ardmore, Atoka, Comanche, Dickson, Duncan, Durant, Eldorado, Hugo, and Lone Grove, OK

AGENCY: Federal Communications Commission.

ACTION: Final rule, petition for reconsideration.

SUMMARY: In response to a request by Jayson D. Fritz and Janice M. Fritz, this document dismisses a Petition for Partial Reconsideration directed to the Report and Order in this proceeding. See 63 FR 63016, November 10, 1998. With this action, this docketed proceeding is terminated.

FOR FURTHER INFORMATION CONTACT: Robert Hayne, Mass Media Bureau (202) 418-2177.

SUPPLEMENTARY INFORMATION: This is a synopsis of the Order in MM Docket No. 98-198 adopted May 18, 2000, and released May 19, 2000. The full text of this decision is available for inspection and copying during normal business hours in the FCC Reference Center at Portals ll, CY-A257, 445 12th Street, SW, Washington, D.C. The complete text of this decision may also be purchased from the Commission's copy contractor, International Transcription Service, Inc., (202) 857-3805, 1231 20th Street, NW, Washington, D.C. 20036.

List of Subjects in 47 CFR Part 73

Radio broadcasting.

Federal Communications Commission.
John A. Karousos,
Chief, Allocations Branch, Policy and Rules Division, Mass Media Bureau.

[FR Doc. 00-13595 Filed 5-31-00; 8:45 am]

BILLING CODE 6712-01-U